INTERNATIONAL TRADE COMMISSION

[Investigations Nos. 701-TA-438 (Preliminary) and 731-TA-1076 (Preliminary)]

Live Swine From Canada

Determinations

On the basis of the record ¹ developed in the subject investigations, the United States International Trade Commission (Commission) determines, pursuant to sections 703(a) and 733(a) of the Tariff Act of 1930 (19 U.S.C. 1671b(a) and 19 U.S.C. 1673b(a)) (the Act), that there is a reasonable indication that an industry in the United States is materially injured by reason of imports from Canada of live swine, provided for in subheadings 0103.91.00 and 0103.92.00 of the Harmonized Tariff Schedule of the United States, that are alleged to be subsidized by federal and provincial governments in Canada and sold in the United States at less than fair value (LTFV).

¹ The record is defined in § 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On March 5, 2004, a petition was filed with the Commission and Commerce by the National Pork Producers Council, 8 state associations, and 119 individual pork producers, alleging that an industry in the United States is materially injured or threatened with material injury by reason of subsidized and LTFV imports of live swine from Canada. Accordingly, effective March 5, 2004, the Commission instituted antidumping and countervailing duty investigations Nos. 701-TA-438 (Preliminary) and 731-TA-1076 (Preliminary).

Notice of the institution of the Commission's investigations and of a public conference to be held in connection therewith was given by posting copies of the notice in the Office of the Secretary, U.S. International Trade Commission, Washington, DC, and by publishing the notice in the Federal Register of March 16, 2004 (69 FR 12347, March 16, 2004). The conference was held in Washington, DC, on March 26, 2004, and all persons who requested the opportunity were permitted to appear in person or by counsel.

The Commission transmitted its determinations in these investigations to the Secretary of Commerce on May 10, 2004. The views of the Commission are contained in USITC Publication 3693 (May 2004), entitled Live Swine From Canada: Investigations Nos. 701-TA-438 (Preliminary) and 731-TA-1076 (Preliminary).

By order of the Commission.
Issued: May 11, 2004.
Marilyn R. Abbott,
Secretary to the Commission.

[FR Doc. 04-10939 Filed 5-13-04; 8:45 am]

BILLING CODE 7020-02-P